DEPARTMENT OF HEALTH AND HUMAN SERVICES

National Institutes of Health

Center for Scientific Review; Amended Notice of Meeting

Notice is hereby given of a change in the meeting of the Center for Scientific Review Special Emphasis Panel, October 3, 2013, 12:00 p.m. to October 3, 2013, 05:00 p.m., Doubletree Hotel, Washington DC, 1515 Rhode Island Avenue NW., Washington, DC 20005, which was published in the Federal Register on September 05, 2013, 78 FR 54666.

The meeting will be held on November 21, 2013 from 02:00 p.m. to 05:00 p.m. The meeting location remains the same. The meeting is closed to the public.

Dated: October 29, 2013.
Melanie J. Gray,
Program Analyst, Office of Federal Advisory Committee Policy.

[FR Doc. 2013-26170 Filed 11-1-13; 8:45 am]

BILLING CODE 4140-01-P